DEPARTMENT OF HEALTH AND HUMAN SERVICES

Health Resources and Services Administration

Advisory Committee on Training in Primary Care Medicine and Dentistry; Notice of Meeting

In accordance with section 10(a)(2) of the Federal Advisory Committee Act (Public Law 92-463), notice is hereby given of the following meeting:

Name: Advisory Committee on Training in Primary Care Medicine and Dentistry.

Date and Time: October 23, 2003, 8:30 a.m.-4:30 p.m.; October 24, 2003, 8 a.m.-2 p.m.

Place: The Holiday Inn Select, 8120 Wisconsin Avenue, Bethesda, Maryland 20814.

Status: The meeting will be open to the public.

Purpose: The Advisory Committee provides advice and recommendations on a broad range of issues dealing with programs and activities authorized under section 747 of the Public Health Service Act as amended by The Health Professions Education Partnership Act of 1998, Public Law 105-392. At this meeting the Advisory Committee will begin work on its fourth report which will be submitted to Congress and the Secretary of the Department of Health and Human Services in November 2004. The fourth report focuses on the role of primary care in health care delivery in the future and the implications for training health professionals.

Agenda: The meeting on Thursday, October 23, will begin with welcoming and opening comments from the Chair of the Advisory Committee. A plenary session will follow in which Advisory Committee members will hear speakers address the topic of the future of primary care medicine and dentistry. The Advisory Committee will begin its work on the fourth report.

On Friday, October 24, the Advisory Committee will meet in plenary session to discuss training needs of health professionals in the future. Meeting in workgroups, the Advisory Committee will structure various portions of the fourth report. An opportunity will be provided for public comment.

For Further Information Contact: Anyone interested in obtaining a roster of members or other relevant information should write or contact Jerilyn K. Glass, MD, PhD, Division of Medicine and Dentistry, Bureau of Health Professions, Health Resources and Services Administration, Room 9A-21, Parklawn Building, 5600 Fishers Lane, Rockville, Maryland 20857, Telephone (301) 443-6326. The web address for information on the Advisory Committee is http://bhpr.hrsa.gov/medicine-dentistry/actpcmd.

Dated: September 23, 2003.
Jane M. Harrison,
Director, Division of Policy Review and Coordination.

[FR Doc. 03-24658 Filed 9-29-03; 8:45 am]

BILLING CODE 4165-15-P